DEPARTMENT OF ENERGY

Federal Energy Regulatory Commission

[Docket No. AD23-7-000]

PJM Capacity Market Forum; Supplemental Notice of Forum

As announced in the April 19, 2023 Notice in this proceeding, the Federal Energy Regulatory Commission (Commission) will convene a Commissioner-led forum to examine the PJM Interconnection, L.L.C. (PJM) capacity market in the above-captioned proceeding on June 15, 2023 from approximately 12:00 p.m. to 5:00 p.m. Eastern Time, following the Commission's scheduled open meeting. The forum will be held in-person at the Commission headquarters at 888 First Street NE, Washington, DC 20426 in the Commission Meeting Room.

The purpose of this forum is to solicit varied perspectives on the current state of the PJM capacity market, potential improvements to the market, and to consider related proposals to address resource adequacy. The forum will include three panels that will explore whether the PJM capacity market is achieving its objective of ensuring resource adequacy at just and reasonable rates, discuss potential market design reforms that may be needed to achieve this objective, and discuss state Commissioners' and state representatives' views on these issues. The agenda for this forum attached to this Supplemental Notice provides more detail for each panel.

While the forum is not for the purpose of discussing any specific matters before the Commission, some forum discussions may involve issues raised in proceedings that are currently pending before the Commission. These proceedings include, but are not limited to:

PJM Interconnection, L.L.C | Docket Nos. ER22-962, et al.
PJM Interconnection, L.L.C | Docket Nos. ER23-729, et al.; EL23-19, et al.
PJM Interconnection, L.L.C | Docket No. ER23-1038-001.
PJM Interconnection, L.L.C | Docket No. ER23-1067-000.
PJM Interconnection, L.L.C | Docket No. ER23-1609-000.
PJM Interconnection, L.L.C | Docket No. ER23-1700-000.
PJM Interconnection, L.L.C | Docket No. EL21-78-000.
SOO Green HVDC Link ProjectCo, LLC v. PJM Interconnection, L.L.C | Docket No. EL21-103-000.
Roy J. Shanker v. PJM Interconnection LLC | Docket No. EL23-13-000.
Essential Power OPP, LLC, et al. v. PJM Interconnection, L.L.C | Docket No. EL23-53-000.
Aurora Generation, LLC, et al. v. PJM Interconnection, L.L.C | Docket No. EL23-54-000.
Coalition of PJM Capacity Resources v. PJM Interconnection, L.L.C | Docket No. EL23-55-000.
Talen Energy Marketing, LLC v. PJM Interconnection, L.L.C | Docket No. EL23-56-000.
Lee County Generating Station, LLC v. PJM Interconnection, L.L.C | Docket Nos. EL23-57, et al.
SunEnergy1, LLC v. PJM Interconnection, L.L.C | Docket No. EL23-58-000.
Lincoln Generating Facility, LLC v. PJM Interconnection, L.L.C | Docket No. EL23-59-000.
Parkway Generation Keys Energy Center LLC v. PJM Interconnection, L.L.C | Docket No. EL23-60-000.
Old Dominion Electric Cooperative v. PJM Interconnection, L.L.C | Docket No. EL23-61-000.
Energy Harbor LLC v. PJM Interconnection, L.L.C | Docket No. EL23-63-000.
Calpine Corp. v. PJM Interconnection, L.L.C | Docket No. EL23-66-000.
Invenergy Nelson LLC v. PJM Interconnection, L.L.C | Docket No. EL23-67-000.

Attached to this Supplemental Notice is an agenda for the forum, which includes the forum program and expected panelists.

Panelists are asked to submit advance materials to provide any information related to their respective panel (e.g., summary statements, reports, whitepapers, studies, or testimonies) that panelists believe should be included in the record of this proceeding by June 2, 2023. Panelists should file all advance materials in the AD23-7-000 docket in eLibrary.

The forum will be open to the public and there is no fee for attendance. Information will also be posted on the Calendar of Events on the Commission's website, www.ferc.gov, prior to the event.

The forum will be transcribed and webcast. Transcripts will be available for a fee from Ace Reporting (202-347-3700). A free webcast of this event is available through the Commission's website. Anyone with internet access who desires to view this event can do so by navigating to www.ferc.gov's Calendar of Events and locating this event in the Calendar. The Federal Energy Regulatory Commission provides technical support for the free webcasts. Please call (202) 502-8680 or email customer@ferc.gov if you have any questions.

Commission forums are accessible under section 508 of the Rehabilitation Act of 1973. For accessibility accommodations, please send an email to accessibility@ferc.gov, call toll-free (866) 208-3372 (voice) or (202) 208-8659 (TTY), or send a fax to (202) 208-2106 with the required accommodations.

For more information about this forum, please contact Katherine Scott at katherine.scott@ferc.gov or (202) 502-8190. For information related to logistics, please contact Sarah McKinley at sarah.mckinley@ferc.gov or (202) 502-8368.

Dated: May 23, 2023.
Debbie-Anne A. Reese,
Deputy Secretary.

PJM Capacity Market Forum

Docket No. AD23-7-000

June 15, 2023

Agenda and Speakers

12:00 p.m.-12:20 p.m.: Welcome and Opening Remarks

12:20 p.m.-1:30 p.m.: Panel 1: Objectives and Outcomes of PJM's Capacity Market

This panel will explore whether the PJM capacity market is achieving its objective of ensuring resource adequacy at just and reasonable rates. To facilitate an open and thoughtful dialogue, we suggest panelists be prepared to discuss questions such as (1) is the PJM capacity market fulfilling its objectives? If not, why not?; (2) do changes to the resource mix and load, including wide-spread electrification and increased risks due to extreme weather, require changes to the structure of the capacity market?; (3) are there other drivers that may be preventing the PJM capacity market from achieving its objectives?

Panelists

• Manu Asthana, President and CEO, PJM Interconnection, L.L.C.

• Joseph Bowring, President, Monitoring Analytics, Inc.

• Jim Robb, President and CEO, North American Electric Reliability Corporation

• Phil Moeller, Executive Vice President, Business Operations Group and Regulatory Affairs, Edison Electric Institute

• Greg Poulos, Executive Director, Consumer Advocates of the PJM States

1:30 p.m.-1:40 p.m.: Break

1:40 p.m.-3:30 p.m.: Panel 2: Capacity Market Design Reforms

This panel will focus on market design reforms that could better achieve the objectives of PJM's capacity market, including those currently under consideration in PJM's Critical Issue Fast Path stakeholder process. We suggest panelists be prepared to discuss questions such as (1) what reforms might improve the capacity auction's ability to send efficient signals for entry and exit?; (2) what changes might send more efficient signals for resources to perform in real-time?; and (3) what other changes to PJM's current capacity market design might better achieve its objectives?

Panelists

• Adam Keech, Vice President of Market Design and Economics, PJM Interconnection, L.L.C.

• Joseph Bowring, President, Monitoring Analytics, Inc.

• Glen Thomas, President, PJM Power Providers Group

• Marji Philips, Senior Vice President, Wholesale Market Policy, LS Power

• Todd Snitchler, President and CEO, Electric Power Supply Association

• Michelle Bloodworth, President and CEO, America's Power

• Susan Bruce, PJM Industrial Customer Coalition

• Casey Roberts, Senior Attorney, Sierra Club

• James Wilson, Principle, Wilson Energy Economics

3:30 p.m.-3:40 p.m.: Break

3:40 p.m.-4:40 p.m.: Panel 3: Roundtable with State Representatives

This panel will be a roundtable with state Commissioners and other state representatives that will reflect on discussions in the first and second panels. This panel may include discussion on how the PJM capacity market has been functioning and potential changes.

Panelists

• Dan Conway, Commissioner, Public Utilities Commission of Ohio

• Joe Fiordaliso, President, New Jersey Board of Public Utilities

• Kent Chandler, Chairman, Kentucky Public Service Commission

• Emile Thompson, Chairman, District of Columbia Public Service Commission

• William Fields, Deputy People's Counsel, Maryland Office of People's Counsel

• Ruth Ann Price, Deputy Public Advocate, Delaware Division of the Public Advocate

4:40 p.m.-5:00 p.m.: Closing Remarks

[FR Doc. 2023-11416 Filed 5-26-23; 8:45 am]

BILLING CODE 6717-01-P